ENVIRONMENTAL PROTECTION AGENCY

[EPA-HQ-OAR-2007-1182; FRL-10851-01-OMS]

Agency Information Collection Activities; Submission to the Office of Management and Budget for Review and Approval; Comment Request; Emissions Certification and Compliance Requirements for Nonroad Compression-Ignition Engines and On-Highway Heavy Duty Engines (Renewal)

AGENCY: Environmental Protection Agency (EPA).

ACTION: Notice.

SUMMARY: The Environmental Protection Agency (EPA) has submitted an information collection request (ICR), Emissions Certification and Compliance Requirements for Nonroad Compression-ignition Engines and On-highway Heavy Duty Engines (EPA ICR Number 1684.21, OMB Control No. 2060-0287) to the Office of Management and Budget (OMB) for review and approval in accordance with the Paperwork Reduction Act. This is a proposed extension of the ICR, which is currently approved through March 31, 2023. Public comments were previously requested via the Federal Register on January 27, 2023 during a 60-day comment period. This notice allows for an additional 30 days for public comments.

DATES: Comments may be submitted on or before April 28, 2023.

ADDRESSES: Submit your comments, referencing Docket ID Number EPA-HQ-OAR-2007-1182, to EPA online using www.regulations.gov (our preferred method), by email to a-and-r-Docket@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Nydia Yanira Reyes-Morales, Office of Transportation and Air Quality, Mail Code 6405J, Environmental Protection Agency, 1200 Pennsylvania Ave. NW, Washington, DC 20460; telephone number: 202-343-9264; email address: reyes-morales.nydia@epa.gov.

SUPPLEMENTARY INFORMATION: This is a proposed extension of the ICR, which is currently approved through March 31, 2023. An agency may not conduct or sponsor and a person is not required to respond to a collection of information unless it displays a currently valid OMB control number.

Public comments were previously requested via the Federal Register on January 27, 2023 during a 60-day comment period (88 FR 5334). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Title II of the Clean Air Act, (42 U.S.C. 7521 et seq.; CAA), charges the Environmental Protection Agency (EPA) with issuing certificates of conformity for those engines and vehicles that comply with applicable emission requirements. The emission values achieved during certification testing may also be used in the Averaging, Banking, and Trading (ABT) Program. The program allows engine manufacturers to bank credits for engine families that emit below the standard and use the credits to certify engine families that emit above the standard. They may also trade banked credits with other manufacturers. Participation in the ABT program is voluntary.

The CAA also mandates EPA to verify that manufacturers have successfully translated their certified prototypes into mass-produced engines; and that these engines comply with emission standards throughout their useful lives. EPA verifies this through `Compliance Programs' which include Production Line Testing (PLT), In-use Testing and Selective Enforcement Audits, (SEAs). In-use testing allows manufacturers and EPA to verify compliance with emission standards throughout an engine family's useful life. Through SEAs, EPA verifies that test data submitted by engine manufacturers is reliable and testing is performed according to EPA regulations.

Under the Transition Program for Equipment Manufacturers (TPEM), NRCI equipment manufacturers were able to delay compliance with Tier 4 standards for up to seven years as long as they comply with certain limitations. The program, has ended for all power categories. This includes hardship relief. All TPEM forms, except the reporting templates and the bond worksheet are being retired in this action. Participants are required to keep records “for at least five full years after the final year in which allowances are available for each power category” (40 CFR 1039.625(h).

The information requested is collected by the Compliance Division (CD), Office of Transportation and Air Quality, Office of Air and Radiation, EPA. CD uses this information to issue certificates of conformity and ensure that manufacturers comply with applicable regulations and the CAA. Some HD data is also used by the National Highway Traffic Safety Administration (NHTSA) to implement their programs under 49 U.S.C. 32902. EPA's and NHTSA's Office of Enforcement and Compliance Assurance and the Department of Justice may use the information for enforcement purposes.

Manufacturers may assert a claim of confidentiality over information provided to EPA. Confidentiality is granted in accordance with the Freedom of Information Act and EPA regulations at 40 CFR part 2.

Form Numbers: 5900-90, 5900-125, 5900-134, 5900-135, 5900-239, 5900-240, 5900-241, 5900-259, 5900-273, 5900-274, 5900-297, 5900-298, 5900-300, 5900-301, 55900-302, 5900-338, 5900-431, 5900-435, 5900-613, 5900-614, 6900-5414.

Estimated number of respondents: 568 (total).

Frequency of response: Quarterly, annually, and on occasion, depending on the type of response.

Total estimated burden: 142,054 hours per year. Burden is defined at 5 CFR 1320.03(b).

Total estimated cost: $29,109,404 (per year), includes an estimated $16,146,726 annualized capital or maintenance and operational costs.

Changes in the Estimates: There is a net decrease of 19,671 hours in the total estimated burden for ICR 1684.21 from the burden currently identified in the OMB Inventory of Approved ICR Burdens of 161,725 for the previous ICR 1684.20 due to a 99% decrease in burden (14,547 hours) related to TPEM as the program has ended, a correction of a mistake in the certification burden calculations and an increase proportion of carry-over applications to new applications.

Courtney Kerwin,
Director, Regulatory Support Division.

[FR Doc. 2023-06543 Filed 3-28-23; 8:45 am]

BILLING CODE 6560-50-P